DEPARTMENT OF JUSTICE

Notice of Extension to Public Comment Period for Consent Decree Under the Clean Water Act

On March 7, 2014, the Department of Justice lodged a proposed Consent Decree with the United States District Court for the Eastern District of Kentucky in the lawsuit entitled United States v. Nally & Hamilton Enterprises, Inc., Civil Action No. 6:14-cv-00055-DLB.

The proposed Consent Decree resolves all of the United States' claims against Nally & Hamilton Enterprises, Inc., in this case by requiring the Defendant to restore the impacted areas and perform mitigation and to pay a civil penalty.

The prior notice indicated that the Department of Justice would accept written comments relating to this proposed Consent Decree for thirty (30) days from the date of publication of this Notice on March 17, 2014. Having received a request for an extension of the initial comment period and given the public interest in this settlement, the United States is extending the comment period for an additional ten (10) days.

The Department of Justice will receive, for a period of forty (40) days from March 17, 2014, any comments relating to the proposed Consent Decree. Please address comments to Leslie M. Hill, United States Department of Justice, Environment and Natural Resources Division, Post Office Box 7611, Washington, DC 20044-7611 and refer to United States v. Nally & Hamilton Enterprises, Inc., DJ #90-5-1-1-18987. All comments must be submitted no later than April 25, 2014.

The proposed Consent Decree may be examined at the Clerk's Office, United States District Court for the Eastern District of Kentucky, 35 West 5th Street, Covington, Kentucky 41012. In addition, the proposed Consent Decree may be examined electronically at http://www.justice.gov/enrd/Consent_Decrees.html.

Cherie L. Rogers,
Assistant Section Chief, Environmental Defense Section, Environment and Natural Resources Division.

[FR Doc. 2014-08770 Filed 4-16-14; 8:45 am]

BILLING CODE P